DEPARTMENT OF ENERGY

Federal Energy Regulatory Commission

Notice of Application for Surrender of Exemption and Removal of Dam, and Soliciting Comments, Motions to Intervene, and Protests

October 16, 2001.

Take notice that the following hydroelectric application has been filed with the Federal Energy Regulatory Commission and is available for public inspection:

a. Type of Application: Surrender of Exemption.

b. Project No: 7118-007.

c. Date Filed: September 10, 2001.

d. Applicant: State of Maine, Department of Marine Resources (Maine DMR).

e. Name of Project: Smelt Hill Hydroelectric Project.

f. Location: The Smelt Hill Dam is located on the Presumpscot River in the town of Falmouth, Cumberland County, Maine.

g. Filed Pursuant to: Federal Power Act, 16 U.S.C. 791(a)-825(r).

h. Applicant Contact: Thomas Squires, Director, Stock Enhancement Division, Maine DMR, 21 State House Station, Augusta, ME 04333, (207) 624-6348.

i. FERC Contact: Any questions concerning this notice should be addressed to Paul Friedman at (202) 208-1108; e-mail: paul.friedman@ferc.fed.us.

j. Deadline for filing comments, motions, or protests: November 16, 2001.

All documents (original and eight copies) should be filed with: David P. Boergers, Secretary, Federal Energy Commission, 888 First Street, NE., Washington, DC. 20426. Comments, protests and interventions may be filed electronically via the Internet in lieu of paper. See, 18 CFR 385.2001(a)(1)(iii) and the instructions on the Commission's web site under the “e-Filing” link.

Please include the Project No. (7118-007) on any comments or motions filed.

k. Description of Project and Proposed Action: The Smelt Hill development consists of a dam, powerhouse and feeder canal, gatehouse, two fish passage structures, and a reservoir. A flood in 1996 damaged portions of the dam, the hydroelectric generating facility, and the hydraulic fish lift, rendering them inoperable. In September 2001, the Maine DMR acquired the Smelt Hill dam and associated facilities, with the intent of removing the dam to restore the aquatic ecosystem of the lower Presumpscot River. The dam would be removed by the U.S. Army Corps of Engineers.

l. Locations of this application: Copies of this filing are on file with the Commission and are available for public inspection. This filing may also be viewed on the web at http://www.ferc.gov using the “RIMS” link, select “Docket#” and follow the instructions (call 202-208-2222 for assistance).

m. Individuals desiring to be included on the Commission's mailing list should so indicate by writing to the Secretary of the Commission.

David P. Boergers,
Secretary.

[FR Doc. 01-26497 Filed 10-19-01; 8:45 am]

BILLING CODE 6717-01-P